DEPARTMENT OF TRANSPORTATION

Office of the Secretary

Notice of Applications for Certificates of Public Convenience and Necessity and Foreign Air Carrier Permits Filed Under Subpart Q During the Week Ending January 21, 2000

The following Applications for Certificates of Public Convenience and Necessity and Foreign Air Carrier Permits were filed under Subpart Q of the Department of Transportation's Procedural Regulations (See 14 CFR 302.1701 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-6784.

Dated Filed: January 11, 2000.

Due Date for Answers, Conforming Applications, or Motions to Modify Scope: February 8, 2000.

Description: Application of Bellview Airlines Limited pursuant to 49 U.S.C. Section 41302, 14 CFR Part 211 and Subpart Q, applies for a Foreign Air Carrier Permit authorizing it to conduct foreign scheduled air transportation of persons, property and mail between Lagos, Nigeria and New York (JFK International Airport) in the United States, commencing February 2000.

Docket Number: OST-2000-6801.

Date Filed: January 18, 2000.

Due Date for Answers, Conforming Applications, or Motions to Modify Scope: February 15, 2000.

Description: Application of Spanair, S.A. pursuant to 49 U.S.C. 41301 and Subpart Q, applies for renewal and, to the extent necessary, amendment of its Foreign Air Carrier Permit to engage in scheduled foreign air transportation of persons, property and mail between Spain and Washington, D.C. (Dulles) and to conduct charters in accordance with Part 212 of the Department's Rules, for an indefinite period.

Dorothy W. Walker,
Federal Register Liaison.

[FR Doc. 00-2365 Filed 2-2-00; 8:45 am]

BILLING CODE 4910-62-P